POSTAL SERVICE

39 CFR Part 265

Release of Information, Privacy of Information

AGENCY: Postal Service.

ACTION: Final rule.

SUMMARY: This rule amends the Postal Service™ regulations on the release of information and privacy of information.

DATES: This rule is effective September 1, 2005.

FOR FURTHER INFORMATION CONTACT: Jane Eyre at (202) 268-2608.

SUPPLEMENTARY INFORMATION: The Postal Service is revising the format required for requests from process servers for change of address or boxholder information, and the format required for requests from government agencies for address information.

List of Subjects in 39 CFR Part 265

Administrative practice and procedure, Courts, Freedom of information.

For the reasons set forth in this document, the Postal Service is amending 39 CFR part 265 as follows:

PART 265—RELEASE OF INFORMATION

1. The authority citation for part 265 continues to read as follows:

Authority: 5 U.S.C. 552; 5 U.S.C. App. 3; 39 U.S.C. 401, 403, 410, 1001, 2601.

§ 265.6 [Amended]

2. In § 265.6, following paragraph (g), the two figures are revised to read as follows:

BILLING CODE 7710-12-M

Neva Watson,
Attorney, Legislative.

[FR Doc. 05-17378 Filed 8-31-05; 8:45 am]

BILLING CODE 7710-12-C